NATIONAL CREDIT UNION ADMINISTRATION

Submission for OMB Review; Comment Request

AGENCY: National Credit Union Administration (NCUA).

ACTION: Notice.

SUMMARY: The National Credit Union Administration (NCUA) will be submitting the following information collection requests to the Office of Management and Budget (OMB) for review and clearance in accordance with the Paperwork Reduction Act of 1995, on or after the date of publication of this notice.

DATES: Comments should be received on or before March 28, 2018 to be assured of consideration.

ADDRESSES: Send comments regarding the burden estimates, or any other aspect of these information collections, including suggestions for reducing the burden, to (1) Office of Information and Regulatory Affairs, Office of Management and Budget, Attention: Desk Officer for NCUA, New Executive Office Building, Room 10235, Washington, DC 20503, or email at OIRA_Submission@OMB.EOP.gov and (2) NCUA PRA Clearance Officer, 1775 Duke Street, Suite 5060, Alexandria, VA 22314, or email at PRAComments@ncua.gov.

FOR FURTHER INFORMATION CONTACT: Copies of the submission may be obtained by contacting Dawn Wolfgang at (703) 548-2279, emailing PRAComments@ncua.gov, or viewing the entire information collection request at www.reginfo.gov.

SUPPLEMENTARY INFORMATION:

OMB Number: 3133—NEW.

Title: Consumer Assistance Center.

Abstract: NCUA has centralized the intake of consumer complaints and inquiries under the Consumer Assistance Center, via the MyCreditUnion.gov. The Consumer Assistance Center assists consumer with information about federal financial consumer protection and share insurance matters and assists in resolving disputes with credit unions. Consumers can make inquiries or submit a complaint electronically through the MyCreditUnion.gov website. The on-line portal offers a template for consumers to use to aid in identifying their concerns.

Type of Review: Existing collection in use without an OMB control number.

Affected Public: Individuals and Households; Private sector: Not-for-profit institutions.

Estimated Total Annual Burden Hours: 2,404.

OMB Number: 3133-0138.

Title: Community Development Revolving Loan Fund—Loan and Grant Programs, 12 CFR part 705.

Abstract: The Fund is used to support credit unions that serve low-income communities by providing loans and technical assistance grants to qualifying institutions. The programs are designed to increase income, ownership, and employment opportunities for low-income residents, and to stimulate economic growth. In addition, the programs provide assistance to improve the quality of services to the community and formulate more effective and efficient operations of credit unions. The information will allow NCUA to assess a credit union's capacity to repay the Funds and/or ensure that the funds are used as intended to benefit the institution and community it serves.

Type of Review: Revision of a currently approved collection.

Estimated Total Annual Burden Hours: 872.

Reason for Change: An adjustment has been made in the time allotted to complete a grant application. An increase of 112 burden hours from the previous notice is reflected in estimated total annual burden hours for this collection.

By Gerard Poliquin, Secretary of the Board, the National Credit Union Administration, on February 21, 2018.
Dated: February 21, 2018.
Dawn D. Wolfgang,
NCUA PRA Clearance Officer.

[FR Doc. 2018-03857 Filed 2-23-18; 8:45 am]

BILLING CODE 7535-01-P